DEPARTMENT OF THE INTERIOR

National Park Service

[NPS-WASO-NAGPRA-NPS0040484; PPWOCRADN0-PCU00RP14.R50000]

Notice of Intended Repatriation: California State University Northridge, Northridge, CA

AGENCY: National Park Service, Interior.

ACTION: Notice.

SUMMARY: In accordance with the Native American Graves Protection and Repatriation Act (NAGPRA), California State University Northridge (CSUN), intends to repatriate certain cultural items that meet the definition of unassociated funerary objects, sacred objects, and/or objects of cultural patrimony and that have a cultural affiliation with the Indian Tribes or Native Hawaiian organizations in this notice.

DATES: Repatriation of the cultural items in this notice may occur on or after August 11, 2025.

ADDRESSES: Send additional, written requests for repatriation of the cultural items in this notice to Dayle Bingham, CSUN, 1811 Nordhoff Street, Northridge, CA 91330, email dayle.bingham@csun.edu.

SUPPLEMENTARY INFORMATION: This notice is published as part of the National Park Service's administrative responsibilities under NAGPRA. The determinations in this notice are the sole responsibility of CSUN, and additional information on the determinations in this notice, including the results of consultation, can be found in the summary or related records. The National Park Service is not responsible for the determinations in this notice.

Abstract of Information Available

A total of 32 boxes of cultural items have been requested for repatriation. The 32 boxes of unassociated funerary objects and objects of cultural patrimony include lithics, beads, faunal bones, shells, soil samples, and pottery. These 32 boxes comprise material from three collections at CSUN: Vasquez Rocks, Lake Hughes, Acton, and Fontana, CA.

30 boxes of these unassociated funerary objects and objects of cultural patrimony were removed from the Vasquez Rocks (CA-LAN-358, CA-LAN-359, CA-LAN-360, CA-LAN-361, CA-LAN-362, CA-LAN-363, CA-LAN-364, CA-LAN-365, CA-LAN-368, CA-LAN-369, CA-LAN-371, CA-LAN-381, VS#1, CA-LAN-902) sites in northern Los Angeles County, CA. These sites were located on land owned by Dr. Ascher, where his family regularly dug up cultural material throughout the mid-1900s. Further vandalism occurred in 1966 when bulldozers were used to clear parts of the site. CSUN Archaeological Field School Director and Los Angeles County Natural History Museum (LACNHM) curator Dr. Charles Rozaire conducted field schools at these sites from 1967 to 1970. At these field schools, students, under supervision, excavated and removed cultural items and ancestral human remains. Due to the history of vandalism and previous amateur excavations at these sites, the context of the recovered cultural items was often unknown, incomplete, or partially documented.

Based on archaeological context and information obtained from consultations with representatives of the Yuhaaviatam of San Manuel Nation, also federally recognized as the San Manuel Band of Mission Indians, the Morongo Band of Mission Indians, California, and non-federally recognized California Tribes including the Fernandeño Tataviam Band of Mission Indians, these unassociated funerary objects and objects of cultural patrimony are determined to be Native American.

Archaeological evidence indicates that Vasquez Rocks and associated sites located in Agua Dulce (CA-LAN-358, CA-LAN-359, CA-LAN-360, CA-LAN-361, CA-LAN-362, CA-LAN-363, CA-LAN-364, CA-LAN-365, CA-LAN-368, CA-LAN-369, CA-LAN-371, CA-LAN-381, VS#1, CA-LAN-902) served as a cemetery complex between 2315 BCE and 79 BCE (Caruso 1988, Garza 2012, King et al. 1974). Research has shown that the Serrano and Tataviam peoples have continuously occupied the San Gabriel Mountains and the surrounding areas for approximately 5,000 to 6,000 years BP. Linguistic evidence supports the notion of a continuous, shared group identity between the people using Vasquez Rocks roughly 3,000 years ago and modern Native Americans of Serrano and Tataviam descent. Ethnographic evidence and Traditional Knowledge inform us that the Serrano and Tataviam peoples have considered the Agua Dulce region as a part of their homelands since time immemorial.

One box of objects of cultural patrimony was excavated during an archaeological salvage and survey excavation at CA-LAN-430/431, Elizabeth Lake Canyon Road, Lake Hughes, CA in 1970 by Herrick Hanks on behalf of California State University, Northridge Archaeological Research Center.

This excavation, as noted, was salvage survey work around Lake Hughes in Los Angeles County, where construction on numerous properties was already underway. According to reports, bulldozers on the site uncovered archaeological material near school buildings, and the area is currently used as freeways and roadways. Herrick Hanks and archaeology students from CSUN were called upon to assist. Since being brought to the CSUN campus in 1970 for storage, no further research or archaeological assessments have been conducted.

Using archaeological and geographical information in tandem with information learned from consultations with representatives of the Yuhaaviatam of San Manuel Nation, also federally recognized as the San Manuel Band of Mission Indians, and non-federally recognized California tribes, including Fernandeño Tataviam Band of Mission Indians, the objects of cultural patrimony are determined to be Native American. Archaeologists have asserted that the Serrano and Tataviam peoples have continuously occupied the San Gabriel Mountains and the Antelope Valley for 5,000 to 6,000 years BP. Ethnographic evidence and Traditional Knowledge inform us that the Serrano and Tataviam peoples have considered the Lake Hughes region as a part of their homelands since time immemorial.

One box of objects of cultural patrimony was collected in 1988 by the CSUN Northridge Center for Public Archaeology, under the direction of Dr. Bruce Love and Dr. Mark Raab, at the then-proposed Southern Pacific Business Park in Fontana, CA (CA-SBR-5444). The purpose of this project was to evaluate the significance of two previously recorded sites in the area. Surface collecting, auger testing, test unit excavation, and backhoe trenching were employed. The objects collected consist of lithic debitage and soil samples.

Based on archaeological context and information learned from consultations with representatives of the Yuhaaviatam of San Manuel Nation, also federally recognized as the San Manuel Band of Mission Indians, the objects of cultural patrimony are determined to be Native American. Traditional Knowledge informs us that the Serrano people have continuously occupied the area of and surrounding Fontana since time immemorial.

Determinations

The CSUN has determined that:

• The 30 boxes of unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 32 boxes objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Morongo Band of Mission Indians, California and the Yuhaaviatam of San Manuel Nation (previously listed as San Manuel Band of Mission Indians, California).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 11, 2025. If competing requests for repatriation are received, the CSUN must determine the most appropriate requestor prior to repatriation. Requests for joint repatriation of the cultural items are considered a single request and not competing requests. The CSUN is responsible for sending a copy of this notice to the Indian Tribes and Native Hawaiian organizations identified in this notice and to any other consulting parties.

Authority: Native American Graves Protection and Repatriation Act, 25 U.S.C. 3004 and the implementing regulations, 43 CFR 10.9.

Dated: June 25, 2025.
Melanie O'Brien,
Manager, National NAGPRA Program.

[FR Doc. 2025-12839 Filed 7-9-25; 8:45 am]

BILLING CODE 4312-52-P